DEPARTMENT OF TRANSPORTATION

Federal Aviation Administration

Notice of Intent To Request Revision From the Office of Management and Budget of a Currently Approved Information Collection Activity, Request for Comments; AST Customer Service Survey

AGENCY: Federal Aviation Administration (FAA), DOT.

ACTION: Notice and request for comments.

SUMMARY: The FAA invites public comments about out intention to request the Office of Management and Budget (OMB) to approve a current information collection. The FAA Office of the Associate Administrator for Commercial Space Transportation (AST) conducts this survey in order to obtain industry input on customer service standards which have been developed and distributed to industry customer.

DATES: Please submit comments by November 13, 2006.

FOR FURTHER INFORMATION CONTACT: Carla Mauney on (202) 267-9895, or by e-mail at: Carla.Mauney@faa.gov.

SUPPLEMENTARY INFORMATION:

Federal Aviation Administration (FAA)

Title: AST Customer Service Survey.

Type of Request: Revision of an approved collection.

OMB Control Number: 2120-0611.

Form(s): There are no FAA forms associated with this collection.

Affected Public: A total of 300 Respondents.

Frequency: The information is collected annually.

Estimated Average Burden Per Response: Approximately 1 hour per response.

Estimated Annual Burden Hours: An estimated 300 hour annually

Abstract: The FAA Office of the Associate Administrator for Commerce Space Transportation (AST) conducts this survey in order to obtain industry input on customer service standards which have been developed and distributed to industry customers. This is a requirement of the White House NPR Customer Service Initiative. AST collects and analyzes the data for results.

ADDRESSES: Send comments to the FAA at the following address: Mrs. Carla Mauney, Room 1033, Federal Aviation Administration, Information Systems and Technology Service Staff, ABA-20, 800 Independence Ave., SW., Washington, DC 20591.

Comments are invited on: Whether the proposed collection of information is necessary for the proper performance of the function of the Department, including whether the information will have practical utility; the accuracy of the Department's estimate of the burden of the proposed information collection; ways to enhance the quality, utility, and clarity of the information to be collected; and ways to minimize the burden of the collection of information on respondents, including the use of automated collection techniques or other forms of information technology.

Issued in Washington, DC, on September 7, 2006.
Carla Mauney,
FAA Information Collection Clearance Officer, Information Systems and Technology Services Staff, ABA-20.

[FR Doc. 06-7639 Filed 9-13-06; 8:45 am]

BILLING CODE 4910-13-M